DEPARTMENT OF ENERGY

Federal Energy Regulatory Commission

[Project No. 3633-037]

Alternative Energy Associates Limited Partnership; KC Brighton LLC; Notice of Application for Transfer of License, and Soliciting Comments, Motions To Intervene, and Protests

June 26, 2009.

On June 8, 2009, Alternative Energy Associates Limited Partnership (Transferor) and KC Brighton LLC (Transferee) filed a joint application for transfer of license of the Brighton Dam Project. The Project is located on the Patuxent River in Howard and Montgomery Counties, Maryland.

Applicants seek Commission approval to transfer the license for Brighton Dam Project from Alternative Energy Associates Limited Partnership to KC Brighton LLC.

Applicant Contact: For Transferor, Alternative Energy Associates Limited Partnership, Barbara Exter, Alternative Energy Associates Limited Partnership, 123 Piano Drive, Newark, DE 19713-1984, telephone (302) 293-9544.

For Transferee, KC Brighton LLC, Kelly W. Sackheim, KC Brighton LLC, 5096 Cocoa Palm Way, Fair Oaks, CA 95628-519, telephone (916) 267-5937.

FERC Contact: Patricia W. Gillis, (202) 502-8735.

Deadline for filing comments, protests, and motions to intervene: 30 days from the issuance of this notice. Comments and motions to intervene may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-3633-037) in the docket number field to access the document. For assistance, call toll-free 1-866-208-3372.

Kimberly D. Bose,
Secretary.

[FR Doc. E9-15892 Filed 7-6-09; 8:45 am]

BILLING CODE 6717-01-P